DEPARTMENT OF ENERGY

Agency Information Collection Under Review by the Office of Management and Budget

AGENCY: Department of Energy.

ACTION: Notice and request for comments.

SUMMARY: The Department of Energy (DOE) has submitted the proposed collection of information described in this Notice to the Office of Management and Budget (OMB) for review and approval, in accordance with the Paperwork Reduction Act of 1995 (Pub. L. 104-13, 44 U.S.C. Chapter 35.) On December 13, 1999, DOE published a Notice of Proposed Rulemaking that calls for regulations to implement standards and test procedures for commercial heating and air-conditioning equipment (64 FR 69598). The proposed rule contained collections of information required for manufacturers' certification to DOE that their products comply with the applicable energy efficiency standards. OMB is particularly interested in receiving public comments that evaluate: (1) Whether the proposed collection of information is necessary, (2) The accuracy of DOE's estimate of the burden of the proposed information collection, (3) ways to enhance the quality, utility, and clarity of the information to be collected, and (4) ways to minimize the burden of the collection of information on those who choose to respond.

DATES: Comments regarding this collection must be received on or before December 14, 2001. If you anticipate that you will be submitting comments, but find it difficult to do so within the period of time allowed by this notice, please advise the OMB Desk Officer of your intention to make a submission as soon as possible. The Desk Officer may be telephoned at (202) 395-7318. In addition, please notify the DOE contact listed in this Notice.

ADDRESSES: Address comments to the DOE Desk Officer, Office of Information and Regulatory Affairs, Office of Management and Budget, New Executive Office Building, Room 10102, 725 17th Street, NW., Washington, DC 20503. (Comments should also be addressed to Susan L. Frey, Director, Records Management Division, Office the Deputy Associate CIO for Cyber Security, Office of the Chief Information Officer, U.S. Department of Energy, Germantown, MD 20874-1290, and to Cyrus Nasseri, Office of Energy Efficiency and Renewable Energy (EE-41), 1000 Independence Ave., SW., Washington, DC 20585.)

FOR FURTHER INFORMATION CONTACT: Requests for copies of the Department's Paperwork Reduction Act Submission and other information should be directed to Cyrus Nasseri, Office of Energy Efficiency and Renewable Energy (EE-41), 1000 Independence Ave., SW, Washington, DC 20585; (202) 586-9138; or e-mail to Cyrus.Nasseri@ee.doe.gov.

SUPPLEMENTARY INFORMATION: This package contains: (1) OMB No.: 1910-New; (2) Package Title: 10 CFR Part 431-Test Procedures and Certification Requirements for Manufacturers of Commercial Heating and Air-conditioning Equipment; (3) Type of request: New Collection; (4) Purpose: This information will require manufacturers to maintain records to support their certification of the energy efficiency of commercial heating and air-conditioning equipment; (5) Respondents: 124 manufacturers of commercial heating and air-conditioning equipment; (6) Estimated Number of Burden Hours: 31,000.

Statutory Authority: Pub. L. 104-13, 44 U.S.C. Chapter 35.

Issued in Washington, DC, on November 5, 2001.
Susan L. Frey,
Director, Records Management Division, Office of Records and Business Management, Office of the Chief Information Officer.

[FR Doc. 01-28453 Filed 11-13-01; 8:45 am]

BILLING CODE 6450-01-P